NUCLEAR REGULATORY COMMISSION

[NRC-2009-0042]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on March 23, 2009.

1. Type of submission, new, revision, or extension: Extension.

2. The title of the information collection: NRC Form 748, “National Source Tracking Transaction Report.”

3. Current OMB approval number: 3150-0202.

4. The form number if applicable: NRC Form 748.

5. How often the collection is required: Initially, at completion of a transaction, and at inventory reconciliation.

6. Who will be required or asked to report: Licensees that manufacture, receive, transfer, disassemble, or dispose of nationally tracked sources.

7. An estimate of the number of annual responses: 1,350.

8. The estimated number of annual respondents: 1,350 (350 NRC Licensees + 1,000 Agreement State Licensees).

9. An estimate of the total number of hours needed annually to complete the requirement or request: 412.

10. Abstract: In 2006, The NRC amended its regulations to implement a National Source Tracking System for certain sealed sources. The amendments require licensees to report certain transactions involving nationally tracked sources to the National Source Tracking System. These transactions include manufacture, transfer, receipt, disassembly, or disposal of the nationally tracked source. This information collection is mandatory and is used to populate the National Source Tracking System.

A copy of the final supporting statement may be viewed free of charge at the NRC Public Document Room, One White Flint North, 11555 Rockville Pike, Room O-1 F21, Rockville, Maryland 20852. OMB clearance requests are available at the NRC worldwide Web site: http://www.nrc.gov/public-involve/doc-comment/omb/index.html. The document will be available on the NRC home page site for 60 days after the signature date of this notice.

Comments and questions should be directed to the OMB reviewer listed below by July 13, 2009. Comments received after this date will be considered if it is practical to do so, but assurance of consideration cannot be given to comments received after this date.

NRC Desk Officer, Office of Information and Regulatory Affairs (3150-0202), NEOB-10202, Office of Management and Budget, Washington, DC 20503.

The NRC Clearance Officer is Gregory Trussell, (301) 415-6445.

Dated at Rockville, Maryland, this 5th day of June 2009.
For the Nuclear Regulatory Commission.
Tremaine Donnell,
Acting NRC Clearance Officer, Office of Information Services.

[FR Doc. E9-13715 Filed 6-10-09; 8:45 am]

BILLING CODE 7590-01-P